NUCLEAR REGULATORY COMMISSION

[NRC-2015-0044]

Guidance for Evaluation of Acute Chemical Exposures and Proposed Quantitative Standards

AGENCY: Nuclear Regulatory Commission.

ACTION: Draft interim staff guidance; request for comment.

SUMMARY: The U.S. Nuclear Regulatory Commission (NRC) is soliciting public comment on its draft Interim Staff Guidance (ISG), “Guidance for Evaluation of Acute Chemical Exposures and Proposed Quantitative Standards.” The ISG supplements existing guidance in NUREG-1520, “Standard Review Plan for the Review of a License Application for a Fuel Cycle Facility,” by providing additional guidance for the NRC to follow when evaluating descriptions of proposed quantitative standards. The ISG identifies sources of information on which proposed quantitative standards may be based.

DATES: Submit comments by May 18, 2015. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2015-0044. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on accessing information and submitting comments, see “Obtaining Information and Submitting Comments” in the SUPPLEMENTARY INFORMATION section of this document.

FOR FURTHER INFORMATION CONTACT: Marilyn Diaz, Office of Nuclear Material Safety and Safeguards, U.S. Nuclear Regulatory Commission, Washington DC 20555-0001; telephone: 301-287-9068, email: Marilyn.Diaz@nrc.gov.

SUPPLEMENTARY INFORMATION:

I. Obtaining Information and Submitting Comments

A. Obtaining Information

Please refer to Docket ID NRC-NRC-2015-0044 when contacting the NRC about the availability of information for this action. You may obtain publicly-available information related to this action by any of the following methods:

• Federal Rulemaking Web site: Go to http://www.regulations.gov and search for Docket ID NRC-2015-0044.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft ISG is available in ADAMS under Accession No. ML15051A029.

• NRC's PDR: You may examine and purchase copies of public documents at the NRC's PDR, Room O1-F21, One White Flint North, 11555 Rockville Pike, Rockville, Maryland 20852.

B. Submitting Comments

Please include Docket ID NRC-2015-0044 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

A fuel cycle facility licensee that is regulated under part 70 of Title 10 of the Code of Federal Regulations (10 CFR), and that is subject to subpart H, “Additional Requirements for Certain Licensees Authorized to Possess a Critical Mass of Special Nuclear Material,” is required to conduct an Integrated safety analysis (ISA) and submit an ISA summary that supports the license application. As relevant to the ISG, the 10 CFR 70.65(b)(7) provision requires that for all credible acute chemical exposure events set forth in 10 CFR 70.61(b)(4) and (c)(4), the ISA summary describe “the proposed quantitative standards used to assess the consequences to an individual from acute chemical exposure to licensed material or chemicals produced from licensed materials.”

The ISG will assist the NRC in determining whether ISA summaries and the underlying ISAs conducted by applicants or licensees adequately consider all credible acute chemical exposure events and exposure pathways. The ISG identifies several sources of chemical hazards information on which proposed quantitative standards may be based. As stated in the ISG, these sources of information include the Emergency Response Planning Guidelines (ERPGs), the Acute Exposure Guidelines Levels (AEGLs), Temporary Emergency Exposure Levels (TEELs), and the Globally Harmonized System of Classification and Labeling of Chemicals (GHS). The ERPGs, AEGLs, TEELs and GHS hazard statements contain information relevant to inhalation exposure pathways. As detailed in the ISG, the National Institute for Occupational Safety and Health Skin Notations, and the GHS hazards statements, contain useful data on which an applicant may base its proposed quantitative standards for dermal and ocular exposures.

The information from the ISG will be incorporated into the next revision of NUREG-1520, “Standard Review Plan for the Review of a License Application for a Fuel Cycle Facility,” (ADAMS Accession No. ML101390110).

Additional background information and documents related to this notice can be found in ADAMS under the following accession numbers:

1 | Memorandum of Understanding Between NRC and OSHA Relating to NRC-Licensed Facilities | ML11354A432
2 | NRC Information Notice 2007-022, Recent Hydrogen Fluoride Exposures at Fuel Cycle Facilities (June 19, 2007) | ML071410230
3 | Letter from Felix M. Killar, Senior Director, Fuel and Materials Safety, NEI, to Daniel H. Dorman, Director, Division of Fuel Cycle Safety and Safeguards, Office of Nuclear Materials Safety and Safeguards (NMSS) (September 8, 2008) | ML083360632
4 | Letter from Daniel H. Dorman, Director, Division of Fuel Cycle Safety and Safeguards, NMSS, to Felix M. Killar, Senior Director, Fuel Supply. Material Licenses, of the Nuclear Energy Institute (NEI) (November 10, 2008) | ML082900889
5 | Letter from Felix M. Killar, Senior Director, Fuel and Materials Safety, NEI, to Daniel H. Dorman, Director, Division of Fuel Cycle Safety and Safeguards, NMSS (February 24, 2009) | ML090690732
6 | Letter from Daniel H. Dorman, Director, Division of Fuel Cycle Safety and Safeguards, NMSS, to Felix M. Killar, Senior Director, Fuel Supply. Material Licenses, of the Nuclear Energy Institute (NEI) (June 12, 2009) | ML090920296
7 | Letter from Janet R. Schlueter, Sr. Director, Fuel and Materials Safety, NEI, to Marissa G. Bailey, Director, Division of Fuel Cycle Safety and Safeguards, NMSS (March 26, 2014) | ML14086A267
8 | Letter from Marissa G. Bailey, Director, Division of Fuel Cycle Safety and Safeguards, NMSS, to Janet R. Schlueter, NEI (September 15, 2014) | ML14251A150
9 | Letter from Ellen Ginsberg, the General Counsel of the NEI to Margaret Doane, the General Counsel of the NRC, (November 7, 2014) | ML14322B019

Dated at Rockville, Maryland, this 26th day of February, 2015.
For the Nuclear Regulatory Commission.
Marissa G. Bailey,
Director, Division of Fuel Cycle Safety, Safeguards and Environmental Review, Office of Nuclear Material Safety and Safeguards.

[FR Doc. 2015-04478 Filed 3-3-15; 8:45 am]

BILLING CODE 7590-01-P